DEPARTMENT OF TRANSPORTATION

Federal Aviation Administration

[Summary Notice No. PE-2002-71]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR 11.85 and 11.91.

Issued in Washington, DC, on December 24, 2002.
Donald P. Byrne,
Assistant Chief Counsel for Regulations.

Dispositions of Petitions

Docket No.: FAA-2000-8176

Petitioner: Varig Engenharia e Manutenção S.A.

Section of 14 CFR Affected: 14 CFR 145.47(b)

Description of Relief Sought/Disposition: To allow VARIG S.A. to use the calibration standards of the Instituto Nacional de Metrologia, Normalização e Qualidade Industrial instead of the calibration standards of the U.S. National Institute of Standards and Technology to test its inspection and test equipment. Grant, 11/29/2002, Exemption No. 6552C

Docket No.: FAA-2000-8178

Petitioner: Compoende Aeronáutica Ltda.

Section of 14 CFR Affected: 14 CFR 145.47(b)

Description of Relief Sought/Disposition: To allow Compoende to use the calibration standards of the Instituto Nacional de Metrologia, Normalização e Qualidade Industrial in lieu of the calibration standards of the U.S. National Institute of Standards and Technology to test its inspection and test equipment. Grant, 11/29/2002, Exemption No. 6550D

Docket No.: FAA-2002-13021

Petitioner: Embraer Empresa Brasileira de Aeronáutica S.A.

Section of 14 CFR Affected: 14 CFR 25.901(c)

Description of Relief Sought/Disposition: To allow type certification of the Model EMB-135BJ series airplanes with RR AE 3007A1E series engines and subsequent RR AE 3007A series engines without an exact showing of compliance with the requirements of § 25.901(c) as they relate to single failures resulting in uncontrollable high thrust conditions. Grant, 12/12/2002, Exemption No. 7933

[FR Doc. 02-33012 Filed 12-30-02; 8:45 am]

BILLING CODE 4910-13-P